DEPARTMENT OF HOMELAND SECURITY

Coast Guard

[Docket No. USCG-2021-0238]

Consolidation of Redundant Coast Guard Boat Stations; Extension of Comment Period

AGENCY: Coast Guard, DHS.

ACTION: Extension of public comment period.

SUMMARY: The Coast Guard is extending the deadline for the submission of public comments in response to its June 9, 2021 request for comments regarding the consolidation of redundant Coast Guard boat stations.

DATES: The deadline for the request for comments published June 9, 2021, at 86 FR 30612, is extended. Public comments must be submitted no later than 11:59 p.m. Eastern Time on September 22, 2021.

ADDRESSES: You may submit comments identified by docket number USCG-2021-0238 using the Federal eRulemaking Portal at https://www.regulations.gov. See the “Public Participation and Request for Comments” portion of the SUPPLEMENTARY INFORMATION section in the original Request for Comments for further instructions on submitting comments.

FOR FURTHER INFORMATION CONTACT: For information about this document call or email Todd Aikins, Coast Guard Office of Boat Forces; telephone 202-372-2463, email todd.r.aikins@uscg.mil.

SUPPLEMENTARY INFORMATION: On June 9, 2021, the Coast Guard published a request for comments regarding the consolidation of certain redundant Coast Guard boat stations. The Coast Guard solicited comments specifically on the consolidation of Stations-Small Scituate, MA; Holland, MI; North Superior, MN; and Beach Haven, NJ. The public comment period was initially set to expire on August 3, 2021, but due to the disruption caused by the global pandemic and requests by local partners for additional time, the Coast Guard believes it would be beneficial to extend the deadline for public comments to ensure the Coast Guard has the benefit of a complete record. The Coast Guard is therefore extending the deadline to submit public comments to no later than 11:59 Eastern Time on September 22, 2021.

This notice is issued under authority of 5 U.S.C. 552(a).

Dated: August 2, 2021.
James B. Rush,
Captain, U.S. Coast Guard, Chief, Office of Boat Forces.

[FR Doc. 2021-16760 Filed 8-4-21; 8:45 am]

BILLING CODE 9110-04-P